NUCLEAR REGULATORY COMMISSION

10 CFR Part 9

[3150-AG78]

Charges for Reproducing Records

AGENCY: Nuclear Regulatory Commission.

ACTION: Final rule.

SUMMARY: The Nuclear Regulatory Commission (NRC) is revising its regulations to permit its contractor to increase the charges for copying publicly available documents at the NRC's Public Document Room (PDR). The increases are necessary to adjust for inflation and a decrease in the projected volume of copying by the NRC contractor. In addition, the revisions will provide for electronic copying to CD-ROM.

EFFECTIVE DATE: The rule is effective June 6, 2001.

FOR FURTHER INFORMATION CONTACT: Thomas E. Smith, Acting Chief, Public Document Room, Office of the Chief Information Officer, Nuclear Regulatory Commission, Washington, DC 20555, 301-415-7204, or 1-800-397-4209 (toll-free).

SUPPLEMENTARY INFORMATION: The PDR retains a copy service to reproduce for a fee publicly available documents whatever their format. Since the NRC's Agency-wide Document Access and Management System (ADAMS) was implemented in November 2000, making recently released documents available in full text online, there has been a significant reduction in the volume of document reproduction. The total volume of copying has fallen from over 3,000,000 pages a year to 1,600,000 in 2000. Based on first quarter data, the projected level of copying for 2001 will be just under 1,000,000 pages. Since the copy service contract is at no cost to the government, the contractor must provide all supplies and equipment. The NRC believes that the price increase is reasonable and in line with the prices charged by other Federal agencies. A market survey showed that the average price is 20 cents per page for paper-to-paper copies and 27 cents for microfiche-to-paper copies.

The contractor will offer two new services to the public: copying documents from ADAMS to CD-ROM and copying color documents from ADAMS to paper. The contractor will be able to accept orders directly online from ADAMS through the new ADAMS Online Order Module scheduled to be released shortly.

Because this amendment concerns an agency practice and procedure, the NRC has determined that notice and comment under the Administrative Procedures Act, 5 U.S.C. 553(b) (A) and (B), is unnecessary and that good cause exists to dispense with the comment.

Environmental Impact: Categorical Exclusion

The NRC has determined that this final rule is the type of action described in categorical exclusion 10 CFR 51.22 (c) (1) and (2). Therefore, neither an environmental impact statement nor an environmental assessment has been prepared for this final rule.

Paperwork Reduction Act Statement

This final rule does not contain a new or amended information collection requirement subject to the Paperwork Reduction Act of 1995 (44 U.S.C. 3501 et seq.).

Public Protection Notification

If a means used to impose an information collection does not display a currently valid OMB control number, the NRC may not conduct or sponsor, and a person is not required to respond to, the information collection.

Regulatory Analysis

A regulatory analysis has not been prepared for this final rule because the final rule makes only minor conforming changes to the regulations that reference Section 202 of the Energy Reorganization Act and minor changes to other regulations.

Backfit Analysis

The NRC has determined that these amendments do not involve any provisions which would impose backfits as defined in 10 CFR 50.109(a)(1); therefore a backfit analysis need not be prepared.

Small Business Regulatory Enforcement Fairness Act

In accordance with the Small Business Regulatory Enforcement Fairness Act of 1996, the NRC has determined that this action is not a major rule and has verified this determination with the Office of Information and Regulatory Affairs of OMB.

List of Subjects in 10 CFR Part 9

Criminal penalties, freedom of information, privacy, reporting and recordkeeping requirements, the Sunshine Act.

For the reasons set out in the preamble and under the authority of the Atomic Energy Act of 1954, as amended, the Energy Reorganization Act of 1974, as amended, and 5 U.S.C. 552 and 553, the NRC is adopting the following amendments to 10 CFR Part 9.

PART 9—PUBLIC RECORDS

1. The authority citation for Part 9 continues to read as follows:

Authority: Sec. 161, 68 Stat. 948, as amended (42 U.S.C. 2201); Sec. 201, 88 Stat. 1242, as amended (42 U.S.C. 5841).

Subpart A is also issued under 5 U.S.C. 552 and 31 U.S.C. 9701; (Pub. L. 99-570). Subpart B is also issued under 5 U.S.C. 552a. Subpart C is also issued under 5 U.S.C. 552b.

2. Section 9.35 is amended by revising paragraph (a)(1) to read as follows:

§ 9.35 Duplication fees.

(a)(1) The charges by the duplicating service contractor for the duplication of records made available under § 9.21 at the NRC Public Document Room (PDR), One White Flint North, 11555 Rockville Pike, Room O-1F23, Rockville, MD. are as follows:

(i) Paper-to-paper reproduction is $0.15 per page for standard size (up to 11″ × 14″). Pages 11″ × 17″ are $0.30 per page. Pages larger than 11″ × 17″, including engineering drawings, are $2.50 per square foot.

(ii) Color drawings are $2.00 per 8½″ × 11″ page. Pages larger than 8½″ × 11″ are $12.00 per square foot.

(iii) Microfiche-to-paper reproduction is $0.15 per page. Aperture cards are $2.50 per square foot.

(iv) The charges for Electronic Full Text (EFT) (ADAMS documents) copying are as follows:

(A) Electronic Full Text (EFT) copying of ADAMS documents to paper (applies to images, OCR TIFF, and PDF text) is $0.15 per page.

(B) Electronic Full Text (EFT) copying of ADAMS documents to CD-ROM is $10.00 for the first document on the CD-ROM and $5.00 for each additional document per accession number on the same CD-ROM.

(C) CD-ROM-to-paper reproduction is $0.15 per page.

(v) Priority rates (rush processing) are as follows:

(A) The priority rate is offered for standard size paper-to-paper reproduction, microfiche-to-paper reproduction, electronic full text (EFT) copying of ADAMS documents to paper, and CD-ROM-to-paper production at $0.20 per page. The priority rate for standard size color prints is $2.50 per print. The priority rate for color drawings larger than 8½″ × 11″ is $15.00 per square foot.

(B) The priority rate for aperture cards is $3.50 per square foot. The priority rate for electronic full text (EFT) to CD-ROM is $15.00 for the first document on the CD-ROM and $7.50 per each additional document on the same CD-ROM.

(vi) Facsimile charges are $0.30 per page for local calls; $0.50 per page for U.S. long distance calls, and $1.00 per page for foreign long distance calls.

* * * * *

Dated in Rockville, Maryland, this 25th day of April 2001.
For the Nuclear Regulatory Commission.
William D. Travers,
Executive Director for Operations.

[FR Doc. 01-11387 Filed 5-4-01; 8:45 am]

BILLING CODE 7590-01-P